NATIONAL ARCHIVES AND RECORDS ADMINISTRATION

Office of Presidential Libraries; Proposed Disposal of Clinton Administration

Electronic Backup Tapes

AGENCY: National Archives and Records Administration (NARA).

ACTION: Presidential Records Act notice of proposed disposal of Clinton Administration PROFS backup tapes; final agency action.

SUMMARY: The National Archives and Records Administration (NARA) has identified an obsolete series of Clinton PROFS backup tapes maintained by the National Security Council, housed at the National Archives at College Park, Maryland, as appropriate for disposal under the provisions of 44 U.S.C. 2203(f)(3). This notice describes the Presidential record information on these backup tapes and our reasons for determining that these backup tapes have insufficient administrative, historical, informational, or evidentiary value to warrant their continued preservation. This decision is made in light of the fact that there has been an extensive tape restoration project done on these backup tapes and the recovered record information is being maintained by NARA in a separate set of permanent tapes.

DATES: Effective Date: The disposal will occur on or after April 25, 2006.

FOR FURTHER INFORMATION CONTACT: Assistant Archivist for Presidential Libraries Sharon K. Fawcett, National Archives and Records Administration, Suite 2200, 8601 Adelphi Road, College Park, Maryland 20740-6001; tel. 301-837-3250, or by fax to 301-837-3199; or by e-mail to sharon.fawcett@nara.gov.

SUPPLEMENTARY INFORMATION: NARA published a “Presidential Records Act notice of proposed disposal of Clinton Administration PROFS backup tapes containing redundant information” on May 3, 2005, in the Federal Register (70 FR 22926) for a 45 day comment period. NARA received four written comments from representatives of the Maryland State Archives, The Information Trust, Public Citizen Litigation Group, and the National Security Archive. In addition, NARA staff met with representatives of the latter three organizations on May 25, 2005, to discuss the FR notice. The following is a summary of the comments and NARA's response.

Summary of Comments

Three of the commenters found the original notice confusing as to what materials are being proposed for disposition, and asked that NARA more precisely clarify the scope of the proposed disposition action in a further notice. In particular, these commenters asked for confirmation of the following in the second notice:

1. Clarification that the notice for disposal applies only to PROFS back up tapes maintained by the National Security Council (NSC), and that another series of Clinton Administration NSC e-mail, the main system used during the Clinton Administration for archiving Clinton NSC emails, as well as the email backups for this system will continue to be preserved;

2. NARA specify at greater length what applications were used on the PROFS system during the Clinton Administration and by whom; and

3. That NARA describe the appraisal that staff conducted to determine whether the material was appropriate for disposition, including whatever comparisons were made of the data subject to this notice with data otherwise being permanently preserved at NARA.

4. Finally, one commenter also asked for technical information, including the type of tape media used, the nature of the tape restoration project, as well as the contents of any inventories of the tapes.

NARA Response

In response to the questions that were raised, NARA wishes to clarify that:

1. Clarification on disposal notice:

NARA proposes only the disposition of Clinton Presidential electronic records on 9,193 class 3480 magnetic tape cartridges, containing backup formatted records of calendars, call logs, notes and documents created using IBM proprietary Professional/Office Vision software (PROFS). This series includes calendars and call logs from January 20, 1993 through January 2001 created by a limited number of NSC staff persons who had access to the PROFS software. Further, this series includes notes and documents from January 20, 1993 through June 30, 1993 created by those NSC staff members who had access to and used the PROFS software.

The PROFS system was not the primary email application available to NSC staff during the Clinton administration. Most staff used the NSC Classified Email System known as “A-1” or “All-in-One,” later migrated to Microsoft Mail and Microsoft Schedule. NARA retains official record copies in electronic form of an estimated 2-3 million classified e-mails from the A-1 and Microsoft Mail system. The body of e-mail and backup tapes that correspond to this separate email system are being maintained by NARA and are not affected by the proposed notice.

NARA proposes this disposal because NARA continues to maintain 45 tapes created through an extensive NSC Tape Restoration Project (TRP) undertaken as a result of the Armstrong litigation. These tapes include all PROFS notes and documents created between January 20, 1993 and June 30, 1993, as well as all PROFS calendar and call log information for the period of time between January 20, 1993 and March 28, 1994. Further, the TRP also restored PROFS calendar and call log information for all PROFS calendar users through calendar year 1995.

NARA is also retaining what was described in the first FR notice as an electronic “snapshot” of PROFS calendar data and call logs corresponding to the records of five high-level NSC officials, namely: Anthony Lake, National Security Advisor; Samuel Berger, Deputy and later National Security Advisor; Nancy Soderberg, Staff Director and later Deputy National Security Advisor; Donald Kerrick, Deputy National Security Advisor; and James Steinberg, Deputy National Security Advisor. This snapshot consists of cumulative calendar and call log entries (in a logical file format that can be read), corresponding to the entire eight year span of the Clinton Administration. An analysis made by NARA staff of the restored calendars and call logs indicates that the overwhelming majority of such data (approximately 94%) represents entries by three users, namely: Anthony Lake, Samuel Berger, and Nancy Soderberg.

Additionally, NARA will permanently retain multiple preservation copies of the January 19, 2001 backup tape created by WHCA, containing cumulative calendar data from all PROFS calendar users during the entire span of the Clinton Administration.

Finally, the original, unrestored set of Clinton PROFS backup tape cartridges remain in an unacceptable format for continued NARA preservation and access purposes.

2. Applications used on PROFS and by whom:

For the period of January 20, 1993 through June 30, 1993, the PROFS notes and documents functions were available to staff members with accounts on the system. The notes and documents functions of PROFS were disabled on June 30, 1993 and hence were no longer available to staff.

In addition, during the entire Clinton Administration, the PROFS system was available to a small number of staff members to use the calendar and call log functions. Throughout the Administration the calendar and call log functions were used, primarily, by the five high-level NSC officials identified above, namely: Anthony Lake, Samuel Berger, Nancy Soderberg, Donald Kerrick, and James Steinberg. In addition, members of NSC's Office of the Executive Secretary and certain other NSC staff used the calendar function of PROFS for the scheduling of routine staff meetings, personal leave and noting Federal holidays.

3. Information on the appraisal done by NARA to reach this decision:

Starting in 2003, a year long appraisal process was undertaken by two NARA archivists. This appraisal was completed in accordance with NARA's guidance for the disposal of Presidential Records, NARA Directive 1461. The purpose of the appraisal was to establish the redundancy of the information on the backup tapes being proposed for disposal and to confirm that record information on the backup tapes was captured and preserved in a separate series of permanent tapes. This appraisal included a careful review of the contents of the PROFS backup tapes subject to this disposition notice and a comparison of information residing on the backup tapes against what was restored in the TRP process. Further, staff compared the content of the back up tapes with the above-described end of Administration “snapshot.”

NARA archivists found in doing this appraisal that, as a result of the cumulative backup process, the PROFS backup tapes contain multiple copies of all records created on the PROFS system. In addition, NARA archivists confirmed, in an analysis of the restored TRP data, that 1,869 PROFS notes and 128 PROFS documents, all created prior to June 30, 1993, solely consist of requests for password changes, the setting up of new accounts, and other systems-related questions posed by NSC staff. Notwithstanding the routine, administrative nature of this data, all of it is being preserved, in a separate series, as the product of the Armstrong TRP.

NARA archivists separately sampled calendar and call log data in two different ways to ensure the completeness of the data preserved for high-level NSC officials. First, NARA archivists sampled calendar and call log data for random days in 1993 and 1994 during the period of the Armstrong TRP. Calendar and call log data from the PROFS backup tapes was compared with the restored series of tapes resulting from the Armstrong TRP. Based on a review of the restored calendars of Lake, Berger, Soderberg, and others who were staff members in the early Clinton Administration, NARA archivists confirmed that the calendar and call log data on PROFS backups matched the entries on the restored media. Again, this TRP data is being preserved in a separate series.

Second, NARA archivists compared calendar and call log entries on the PROFS backups with similar entries on the end of Administration “snapshot” from January 19, 2001, for the five high-level NSC staff members referenced in the previous paragraph (Lake, Berger, Soderberg, Kerrick and Steinberg). NARA was able to confirm that data from the PROFS backup tapes matched data captured on the end of Administration “snapshot.” Therefore, there was no indication based on NARA's review that calendar or call log entries had been modified or deleted by individual NSC staff members after the initial time of their entry. This “snapshot” data is being preserved in a separate series.

Finally, NARA archivists sampled individual accounts on the PROFS backups looking for data that would not have been restored as part of the Armstrong TRP process. NARA staff, working with WHCA staff, examined file extensions to backup files looking for additional user created files that would not have been captured during the TRP process. Only one user-created file was found that based on its file extension was determined not to have been subject to the TRP. This consisted of a tickler file reminder, dated May 1993 for a clerical staff member, of a purely routine and administrative nature. (The reminder is still being retained on the cumulative backup tape.) Archivists found no evidence of user-generated content on the PROFS system after June 30, 1993, when PROFS applications were disabled except for calendar and call log data.

Given this extensive appraisal, NARA was able to determine that these records no longer retain sufficient administrative, historical, informational, or evidentiary value.

4. Additional technical information in response to comments received.

Tape format. In further response to technical questions raised by the commenters, the PROFS backup tapes which are subject to disposition were originally created on 3480 tape cartridges, for the purpose of emergency disaster recovery. The TRP consisted of a multi-stage process using a variety of IBM proprietary software designed to recover user created data from the backup tapes. The output of the TRP and the end of Administration snapshot tape is structured in a NARA-approved EBCDIC format. Because the preservation copies of the January 19, 2001 cumulative backup tape are in a backup tape format, further restoration would be necessary to provide for future access.

Documentation. NARA will retain documentation consisting of the inventories of PROFS tapes transferred to NARA at the end of the Clinton Administration. The inventory of the backup tapes consists of tape numbers and dates; the inventory of the “snapshot” tape contains the list of individuals represented on the tape; and the inventory of the TRP resulting tapes contains tape numbers, dates, and the type of information contained on the tape (i.e., calendar files, index files, documents files, note files, and residual files).

NARA Action

NARA will proceed to dispose of 9,193 PROFS backup tapes created during the Clinton Administration by WHCA staff as specified in the EFFECTIVE DATE of this notice, because NARA has determined that they lack sufficient administrative, historical, informational, or evidentiary value. This notice constitutes NARA's final agency action pursuant to 44 U.S.C. 2203(f)(3).

Dated: February 17, 2006.
Allen Weinstein,
Archivist of the United States.

[FR Doc. E6-2641 Filed 2-23-06; 8:45 am]

BILLING CODE 7515-01-P